DEPARTMENT OF TRANSPORTATION

Office of the Secretary

Notice of Applications for Certificates of Public Convenience and Necessity and Foreign Air Carrier Permits Filed Under Subpart Q During the Week Ending January 28, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1995-196.

Date Filed: January 18, 2000.

Due Date for Answers, Conforming Applications, or Motions to Modify Scope: February 15, 2000.

Description: Application of United Air Lines, Inc. (“United”) pursuant to 49 U.S.C. 41101 and subpart Q, applies for renewal of its certificate of public convenience and necessity for Route 669, authorizing United to engage in foreign air transportation of persons, property and mail between a point or points in the United States and the terminal point Kiev, Ukraine via the intermediate point Frankfurt, Germany.

Docket Number: OST-2000-6831.

Date Filed: January 27, 2000.

Due Date for Answers, Conforming Applications, or Motions to Modify Scope: February 24, 2000.

Description: Application of Delta Air Lines, Inc. (“Delta”) pursuant to 49 U.S.C. 41102 and 41108, part 201, and subpart Q, applies for renewal of its certificate of public convenience and necessity for Route 667, which authorizes Delta to engage in foreign air transportation of persons, property and mail between a point or points in the United States; the intermediate point Vienna, Austria; and the coterminal points Kiev and Odessa, Ukraine.

Docket Number: OST-2000-6835.

Date Filed: January 28, 2000.

Due Date for Answers, Conforming Applications, or Motions to Modify Scope: February 25, 2000.

Description: Application of Trans Continental Airlines, Inc. (“TCA”) pursuant to 49 U.S.C. 41105 and subpart Q, requests that the Department disclaim jurisdiction over or, in alternative, approve the transfer of the TCA certificate of public convenience and necessity authorizing it to provide interstate scheduled air transportation of property and mail to EXPRESS.NET AIRLINES LLC, reissue the certificate in the name EXPRESS.NET AIRLINES LLC.

Docket Number: OST-2000-6836.

Date Filed: January 28, 2000.

Due Date for Answers, Conforming Applications, or Motions to Modify Scope: February 25, 2000.

Description: Application of Northwest Airlines, Inc. (“Northwest”) pursuant to 49 U.S.C. 41102, 41108 and subpart Q, applies for renewal of its experimental certificate of public convenience and necessity for Route 668 authorizing it to engage in foreign air transportation of persons, property and mail “between a point or points in the United States; the intermediate point Amsterdam, The Netherlands; and the terminal point Kiev, Ukraine.”

Dorothy W. Walker,
Federal Register Liaison.

[FR Doc. 00-2776 Filed 2-7-00; 8:45 am]

BILLING CODE 4910-62-P